DEPARTMENT OF COMMERCE

National Oceanic and Atmospheric Administration

RIN: 0648-XR79

New England Fishery Management Council; Public Meetings

AGENCY: National Marine Fisheries Service (NMFS), National Oceanic and Atmospheric Administration (NOAA), Commerce.

ACTION: Notice of public meetings.

SUMMARY: The New England Fishery Management Council(s (Council) Habitat Committee and Habitat Advisory Panel will hold meetings to consider actions affecting New England fisheries in the exclusive economic zone (EEZ).

DATES: The meetings will be held in October, 2009. For specific dates and times, see SUPPLEMENTARY INFORMATION.

ADDRESSES: The meetings will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The advisory panel and committee meeting schedules and agendas are as follows:

1. Joint Habitat Committee and Advisory Panel Meeting - Tuesday, October 13, 2009 beginning at 9 a.m.

The committee and advisory panel will review Swept Area Seabed impact (SASI) model. They will also solicit Committee and Advisory Panel input on model components and discuss terms of reference for upcoming Scientific and Statistical Committee review of SASI. The Committee and Advisory Panel may also consider other topics at their discretion.

2. Habitat Committee Meeting - Wednesday, October 14, 2009 beginning at 9 a.m.

The Committee will discuss alternatives to minimize the effects of fishing on essential fish habitat (EFH) and will also review a timeline for completion of Omnibus EFH Amendment 2.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council(s intent to take final action to address the emergency.

Special Accommodations

These meetings are physically accessible to people with disabilities. Requests for sign language interpretation or other auxiliary aids should be directed to Paul J. Howard (see ADDRESSES), at least 5 working days prior to the meeting date.

Authority: 16 U.S.C. 1801 et seq.

Dated: September 21, 2009.
William D. Chappell,
Acting Director, Office of Sustainable Fisheries, National Marine Fisheries Service.

[FR Doc. E9-23019 Filed 9-23-09; 8:45 am]

BILLING CODE 3510-22-S